INTERNATIONAL TRADE COMMISSION

[Investigation No. TA-201-67 (Consistency Determination)]

Wheat Gluten: Procedures for Determination Under Section 129(a)(4) of the URAA

AGENCY: United States International Trade Commission.

ACTION: Procedures relating to determination under section 129(a)(4) of the Uruguay Round Agreements Act (URAA) (19 U.S.C. 3538(a)(4)).

SUMMARY: The Commission adopted these procedures following receipt on April 3, 2001, of a request from the United States Trade Representative (USTR) for a determination under section 129(a)(4) of the URAA that would render the Commission's action in investigation No. TA-201-67, Wheat Gluten, not inconsistent with the findings of the WTO Appellate Body in its report entitled “United States—Definitive Safeguard Measures on Imports of Wheat Gluten from the European Communities,” AB-2000-10.

EFFECTIVE DATE: April 9, 2001.

FOR FURTHER INFORMATION CONTACT: Robert Carpenter (202-205-3172), Office of Investigations, or John Henderson (202-708-2310), Office of the General Counsel, U.S. International Trade Commission, 500 E Street SW., Washington, DC 20436. Hearing-impaired persons can obtain information on this matter by contacting the Commission's TDD terminal on 202-205-1820. Persons with mobility impairments who will need special assistance in gaining access to the Commission should contact the Office of the Secretary at 202-205-2000. General information concerning the Commission may also be obtained by accessing its internet server (http://www.usitc.gov). The public record of investigation No. TA-201-67 may be viewed on the Commission's electronic docket (EDIS-ON-LINE) at http://dockets.usitc.gov/eol/public. The non-confidential versions of any submissions received as well as the staff report prepared for this phase of the investigation will also be available for viewing as they are received.

SUPPLEMENTAL INFORMATION: Background. On March 18, 1998, the Commission transmitted to the President a unanimous affirmative determination and remedy recommendation in its investigation under section 202 of the Trade Act of 1974 (19 U.S.C. 2252) that wheat gluten is being imported into the United States in such increased quantities as to be a substantial cause of serious injury to the domestic wheat gluten industry (investigation No. TA-201-67, Wheat Gluten, USITC Pub. 3088 (March 1998)). The President issued Proclamation 7103 and applied a safeguard measure on imports of wheat gluten. The European Union subsequently requested review under the WTO Understanding on Rules and Procedures Governing the Settlement of Disputes. A WTO Appellate Body issued its report on December 22, 2000, and found, inter alia, that the action of the Commission in its investigation No. TA-201-67, Wheat Gluten, is not in conformity with the obligations of the United States under the WTO Agreement on Safeguards. The Appellate Body made three findings in this regard, which it set out in paragraphs 80 through 92, 93 through 100, and 156 through 163, of its report.

The USTR transmitted his request for this determination following receipt from the Commission on March 22, 2001, of an advisory report under section 129(a)(1) stating that the Commission has concluded that title II of the Trade Act of 1974 permits it to take steps in connection with its action in Investigation No. TA-201-67, Wheat Gluten, that would render its action in that proceeding not inconsistent with the findings of the Appellate Body.

Participation in the Investigation and Service List

Persons wishing to participate in this phase of the investigation as parties must file an entry of appearance with the Secretary to the Commission, as provided in section 201.11 of the Commission's rules (19 CFR 201.11), not later than April 13, 2001. The Secretary will prepare a service list containing the names and addresses of all persons, or their representatives, who are parties in this phase of the investigation upon the expiration of the period for filing entries of appearance. Notwithstanding section 201.16 of the Commission's rules, written submissions provided for below filed by the parties shall be served by hand or by overnight mail or its equivalent.

Limited Disclosure of Confidential Business Information (CBI) Under an Administrative Protective Order (APO) and CBI Service List

Because all parties receiving CBI under the APO in the original investigation were required to return or destroy all CBI received under the APO, parties wishing to receive CBI under an APO in this phase of the investigation must file a new application. Pursuant to section 206.17 of the Commission's rules, the Secretary will make CBI which was gathered during the original investigation (No. TA-201-67) available to authorized applicants under the APO issued in this phase of the investigation, provided that the application is made not later than April 13, 2001. A separate service list will be maintained by the Secretary for those parties authorized to receive CBI under the APO. By the close of business April 16, 2001, the Secretary will make available to authorized parties a copy of the confidential version of the record of the original investigation (No. TA-201-67) and a copy of the staff report for this phase of the investigation.

Written Comments

Parties wishing to file written comments with the Commission in connection with this determination must file such comments with the Secretary to the Commission not later than the close of business April 23, 2001. Any responses to such comments must be filed with the Secretary not later than the close of business April 30, 2001. Comments by parties shall not exceed 40 pages double-spaced, and responses shall not exceed 20 pages double-spaced, excluding exhibits; exhibits shall not contain any argumentation. Non-parties may file a single set of comments with the Secretary not later than the close of business April 23, 2001, which shall not exceed 10 pages double-spaced. All comments shall be limited solely to information in the record of the original investigation (No. TA-201-67), and may include comments regarding the Commission's conclusion in the advisory report under section 129(a)(1). All written comments must conform with the provisions of section 201.8 of the Commission's rules (19 CFR 201.8); any comments that contain confidential business information must also conform with the requirements of section 201.6 of the Commission's rules. The Commission's rules do not authorize the filing of submissions with the Secretary by facsimile or electronic means. The Commission will not hold a public hearing in connection with this determination.

Issued: April 5, 2001.
By order of the Commission.
Donna R. Koehnke,
Secretary.

[FR Doc. 01-8827 Filed 4-6-01; 8:45 am]

BILLING CODE 7020-02-P